DEPARTMENT OF COMMERCE

National Oceanic and Atmospheric Administration

50 CFR Part 300

[Docket No. 240506-0128; RTID 0648-XE093]

Pacific Halibut Fisheries of the West Coast; Inseason Action for the 2024 Area 2A Pacific Halibut Directed Commercial Fishery

AGENCY: National Marine Fisheries Service (NMFS), National Oceanic and Atmospheric Administration (NOAA), Commerce.

ACTION: Temporary rule; inseason adjustment.

SUMMARY: NMFS announces inseason action for the 2024 Pacific halibut non-Tribal directed commercial fishery in the International Pacific Halibut Commission's (IPHC) regulatory Area 2A. This action adds a fishing period, August 6 through August 8, 2024, with a fishing period catch limit of 1,000 pounds (0.45 metric tons (mt)) per vessel, dressed weight. This action is intended to provide opportunity to achieve the 2024 non-tribal directed commercial fishery allocation.

DATES: Effective date: August 6, 2024 through December 7, 2024.

FOR FURTHER INFORMATION CONTACT: Heather Fitch, West Coast Region, NMFS, (360) 320-6549, heather.fitch@noaa.gov.

SUPPLEMENTARY INFORMATION: On May 10, 2024, NMFS published a final rule implementing fishing periods (i.e., season dates) and fishing period limits (i.e., catch limits), by vessel size class, for the IPHC Area 2A Pacific halibut non-tribal directed commercial fishery that operates south of Point Chehalis, WA (lat. 46°53.30′ N) (89 FR 40417). The Area 2A non-Tribal directed commercial fishery allocation is 249,338 pounds (113 mt), net weight (i.e., the weight of Pacific halibut that is without gills and entrails, head-off, washed, and without ice and slime) (89 FR 19275, March 18, 2024).

The initial fishing periods occurred on June 25-27 and July 9-11, 2024, with fishing period limits ranging from 1,800 pounds to 4,500 pounds (0.816 mt to 2.041 mt), varied by vessel size class. Landings information to date indicates that sufficient allocation remains to warrant an additional fishing period. Approximately 182,778 pounds (82.9 mt), net weight, have been harvested of the 249,338-pound (113 mt) allocation (73 percent), leaving 66,560 pounds (30.2 mt) remaining (27 percent).

NMFS is adopting an additional fishing period not previously implemented in the final rule on May 10, 2024 (89 FR 40417), in accordance with 50 CFR 300.63(e)(1)(iii). Fishing period limits implemented through inseason action are equal across vessel size classes and are based on the allocation estimated to be remaining and the projected participation and catch rates in this additional fishing period.

NMFS has determined the following inseason action is necessary to meet the management objective of attaining the allocation, is not anticipated to risk exceeding the allocation, and is consistent with the inseason management provisions allowing for additional fishing periods.

Inseason Action

This inseason action implements an additional fishing period, beginning August 6, 2024 at 8 a.m. and ending on August 8, 2024 at 6 p.m. This inseason action also implements a fishing period catch limit of 1,000 pounds (0.45 mt) per vessel, dressed weight (head-on, with ice and slime), for all vessel size classes.

Notice of this additional fishing period and fishing period limit will also be announced on the NMFS hotline at 206-526-6667 or 800-662-9825.

Classification

NMFS issues this action pursuant to the Northern Pacific Halibut Act of 1982. This action is taken under the regulatory authority at 50 CFR 300.63(e)(1)(iii), and is exempt from review under Executive Order 12866.

Pursuant to 5 U.S.C. 553(b)(B), there is good cause to waive prior notice and an opportunity for public comment on this action, as notice and comment would be impracticable and contrary to the public interest. The California, Oregon, and Washington Departments of Fish and Wildlife provided estimated harvest data to NMFS inseason. As of July 18, 2024, the Area 2A non-Tribal directed commercial fishery had caught only an estimated 73 percent of the fishery allocation. NMFS uses current fishery harvest and participation estimates, and fishing period catches from prior years, to determine if additional fishing periods are necessary to reach the allocation, and to set fishing period limits for those additional fishing periods. Given that harvest in the first two fishing periods is estimated to be well below the allocation, a third fishing period is considered necessary to maximize commercial fishing opportunity to attain the allocation. This action should be implemented as soon as possible for fishery participants to plan for the additional fishing. This fishery has historically had 2 weeks between fishing periods, or as close to 2 weeks between them as is practicable. In 2023, NMFS added a fishing period 3 weeks after the second fishing period and the Council recommended a similar timeline for 2024. The fishery may close no later than December 7, 2024 (89 FR 19275, March 18, 2024). As such, implementing this action through proposed and final rulemaking would limit the benefit this action would provide to fishery participants. Without implementation of an additional fishing period, the fishery allocation is unlikely to be reached, limiting economic benefits to the participants and not meeting the goals of the Catch Sharing Plan. It is necessary that this action be implemented in a timely manner so that planning for the additional fishing period can take place, and for business decision making by the regulated public impacted by this action, which includes commercial fishing operations and associated port businesses, among others. To ensure the regulated public is fully aware of this action, notice of this regulatory action will also be provided to fishery participants through a telephone hotline, and via email news release. No aspect of this action is controversial, and changes of this nature were anticipated in the process described in regulations at 50 CFR 300.63(e)(1)(iii) and in the final rule (89 FR 40417, May 10, 2024).

For the reasons discussed above, there is also good cause under 5 U.S.C. 553(d)(3) to establish an effective date less than 30 days after date of publication, as a delay in effectiveness of this action would constrain fishing opportunity and be inconsistent with the goals of the Catch Sharing Plan, as well as potentially limit the economic opportunity intended by this rule to the associated fishing communities. This inseason action is not expected to result in exceeding the Area 2A Pacific halibut non-tribal directed commercial fishery allocation. NMFS regulations allow the Regional Administrator to add fishing periods and set fishing period limits inseason, provided that the action allows allocation objectives to be met and will not result in exceeding the catch limit for the fishery. NMFS recently received information on the progress of landings in the non-Tribal directed commercial fishery, indicating an additional fishing period with fishing period limits should be implemented in the fishery to ensure optimal and sustainable harvest of the allocation. As stated above, it is in the public interest that this action is not delayed, because a delay in the effectiveness of this additional fishing period would not allow the allocation objectives of the Area 2A Pacific halibut non-Tribal directed commercial fishery to be met.

Authority: 16 U.S.C. 773-773k.

Dated: July 23, 2024.
Lindsay Fullenkamp,
Acting Director, Office of Sustainable Fisheries, National Marine Fisheries Service.

[FR Doc. 2024-16600 Filed 7-25-24; 8:45 am]

BILLING CODE 3510-22-P